DEPARTMENT OF HOUSING AND URBAN DEVELOPMENT

[Docket No. FR-5383-N-06]

Notice of Proposed Information Collection for Public Comment Civil Rights Front End and Limited Monitoring Review

AGENCY: Office of the Assistant Secretary for Public and Indian Housing, HUD.

ACTION: Notice of proposed information collection.

SUMMARY: The proposed information collection requirement described below will be submitted to the Office of Management and Budget (OMB) for review, as required by the Paperwork Reduction Act. The Department is soliciting public comments on the subject proposal.

DATES: Comments Due Date: June 1, 2010.

ADDRESSES: Interested persons are invited to submit comments regarding this proposal. Comments should refer to the proposal by name/or OMB Control number and should be sent to: Leroy McKinney, Jr., Departmental Reports Management Officer, QDAM, Department of Housing and Urban Development, 451 7th Street, SW., Room 4178, Washington, DC 20410-5000; telephone 202-402-8048, (this is not a toll-free number) or e-mail Mr. McKinney at Leroy.McKinneyJr@hud.gov for a copy of the proposed forms, or other available information. Persons with hearing or speech impairments may access this number through TTY by calling the toll-free Federal Information Relay Service at 800-877-8339. (Other than the HUD USER information line and TTY numbers, telephone numbers are not toll-free.)

FOR FURTHER INFORMATION CONTACT: Dacia Rogers, Office of Policy, Programs and Legislative Initiatives, PIH, Department of Housing and Urban Development, 451 7th Street, SW., Room 4116, Washington, DC 20410; telephone 202-402-3374, (this is not a toll-free number).

SUPPLEMENTARY INFORMATION: The Department will submit the proposed information collection to OMB for review, as required by the Paperwork Reduction Act of 1995 (44 U.S.C. Chapter 35, as amended). This Notice is soliciting comments from members of the public and affected agencies concerning the proposed collection of information to: (1) Evaluate whether the proposed collection of information is necessary for the proper performance of the functions of the agency, including whether the information will have practical utility; (2) evaluate the accuracy of the agency's estimate of the burden of the proposed collection of information; (3) enhance the quality, utility, and clarity of the information to be collected; and (4) minimize the burden of the collection of information on those who are to respond, including through the use of appropriate automated collection techniques or other forms of information technology; e.g., permitting electronic submission of responses.

This notice also lists the following information:

Title of Proposal: Civil Rights Front End and Limited Monitoring Review.

OMB Control Number: 2577-0251.

Description of the Need for the Information and Proposed Use: In support of the HUD Office of Public and Indian Housing (PIH) and the Office of Fair Housing and Equal Opportunity (FHEO), the effort will address civil rights related program requirements. Civil rights Front-End Limited Monitoring reviews shall be conducted for twenty (20) Tier 1 PHAs. The purpose of the review is to alert PIH and FHEO of a PHA's Failure to comply with civil rights requirements that pertain to Low-Rent Public Housing Programs, The Housing Choice Voucher Program and Section 504 of the Rehabilitation Act of 1973 as amended.

Agency Form Numbers, if Applicable: HUD-52510-A; 52510-B.

Members of Affected Public: State, Local, or Tribal Government; Public Housing Agencies (PHAs).

Estimation of the Total number of hours needed to prepare the information collection including number of respondents, frequency of response, and hours of response: 20 respondents; requiring annually of 20 responses; 40 total burden hours; average of 2 burden hours per respondent.

Status of the Proposed Information Collection: Extension of a currently approved collection.

Authority: Section 3506 of the Paperwork Reduction Act of 1995, 44 U.S.C. Chapter 35, as amended.

Dated: March 25, 2010.
Merrie Nichols-Dixon,
Acting Deputy Assistant Secretary for Policy, Programs, and Legislative Initiatives, PP.

[FR Doc. 2010-7484 Filed 4-1-10; 8:45 am]

BILLING CODE 4210-67-P